DEPARTMENT OF ENERGY

Federal Energy Regulatory Commission

[Project No. P-2206-030]

Carolina Power and Light Company; Errata Notice and Revised Schedule

June 9, 2006.

On May 10, 2006 the Commission issued a “Notice of Application Tendered for Filing” regarding the above-referenced proceeding. This Errata makes the following correction to the notice:

(1) Under letter n., paragraph 4, the last sentence should be replaced by the following sentence: “During the 2002 drought, Progress Energy and APGI agreed, in a regional Emergency Drought Management Protocol (now expired), to operate the projects so as to achieve a daily average flow of 900 cfs at the Rockingham, North Carolina U.S. Geological Survey gage.”

(2) Under letter q. Procedural Schedule: The table is revised as follows:

Milestone | Target date
Tendering Notice | May 10, 2006.
File Additional Study Requests | June 26, 2006.
Additional Information Requests (if necessary) | July 2006.
Issue Acceptance Letter and Solicit Interventions | October 2006.
Issue Scoping Document 1 for Comments | November 2006.
Hold Scoping Meetings | January 2006.
Request Additional Information (if necessary) | March 2007.
Issue Scoping Document 2 (if necessary) | March 2007.
Notice of Application Ready for Environmental Analysis | April 2007.
Filing of Recommendations, Preliminary Terms and Conditions, and Fishway Prescriptions | June 2007.
Notice of Availability of Draft EA or EIS | September 2007.
Comments on Draft EA or EIS and Modified Terms and Conditions | November 2007.
Notice of Availability of Final EA or EIS | March 2008.
Ready for Commission Decision on the Application | April 2008.

Magalie R. Salas,
Secretary.

[FR Doc. E6-9393 Filed 6-15-06; 8:45 am]

BILLING CODE 6717-01-P